COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products from the Procurement List that was previously furnished by nonprofit agencies employing persons who are blind or have other severe disabilities.

COMMENTS MUST BE RECEIVED ON OR BEFORE: 2/14/2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products are proposed for deletion from the Procurement List:

Products

NSN(s)—Product Name(s):

7195-01-567-9528—Bulletin Bar, Cork, Map Rail, 36″ x 1″, Aluminum Frame

7195-01-567-9529—Bulletin Board, Cork, Map Rail, 48″ x 1″, Aluminum Frame

7195-01-567-9530—Bulletin Bar, Cork, Map Rail, 24″ x 1″, Aluminum Frame

Mandatory Source(s) of Supply: The Lighthouse for the Blind, Inc. (Seattle Lighthouse), Seattle, WA

Contracting Activity(ies): Department of Veterans Affairs, NAC, Hines, IL; General Services Administration, FSS Household and Industrial Furniture, Arlington, VA

NSN(s)—Product Name(s):

7105-00-260-1390—Mirror, Glass, 11⅜ x 13⅜″

7105-00-264-5997—Mirror, Glass, 20 x 60″

Mandatory Source(s) of Supply: UNKNOWN

Contracting Activity: General Services Administration, Fort Worth, TX

NSN(s)—Product Name(s):

5140-01-424-9917—Tool Box

5180-01-423-6468—Tool Box and Kit

Mandatory Source(s) of Supply: UNKNOWN

Contracting Activity: General Services Administration, Kansas City, MO

NSN(s)—Product Name(s):

8415-00-NSH-1276—Gortex, Women's Shell Trousers—Small/Short

8415-00-NSH-1277—Gortex, Women's Shell Trousers—Small/Long

8415-00-NSH-1278—Gortex, Women's Shell Trousers—Medium/Short

8415-00-NSH-1279—Gortex, Women's Shell Trousers—Medium/Long

8415-00-NSH-1280—Gortex, Women's Shell Trousers—Large/Short

8415-00-NSH-1281—Gortex, Women's Shell Trousers—Large/Long

8415-00-NSH-1282—Gortex, Women's Shell Trousers—Xlarge/Short

8415-00-NSH-1283—Gortex, Women's Shell Trousers—Xlarge/Long

8415-00-NSH-0591—Trousers, MPS, Navy, Women's, Sage Green, XSR

8415-00-NSH-0592—Trousers, MPS, Navy, Women's, Sage Green, SR

8415-00-NSH-0593—Trousers, MPS, Navy, Women's, Sage Green, MR

8415-00-NSH-0594—Trousers, MPS, Navy, Women's, Sage Green, LR

8415-00-NSH-0595—Trousers, MPS, Navy, Women's, Sage Green, XLR

8415-00-NSH-0994—Trousers, Shell Outer Layer, MPS, Navy, Women's, Black, X Small Short

8415-00-NSH-0995—Trousers, Shell Outer Layer, MPS, Navy, Women's, Black, X Small Long

Mandatory Source(s) of Supply: Group Home Foundation, Inc., Belfast, ME; Peckham Vocational Industries, Inc., Lansing, MI

Contracting Activity(ies): Naval Air Systems Command, Patuxent River, MD; Army Contracting Command—Aberdeen Proving Ground, Natick Contracting Division, Natick, MA

NSN(s)—Product Name(s):

8415-00-NSH-0547—Gortex Shell Jacket, MPS, Army, Men's, Sage Green, XSR

8415-00-NSH-0548—Gortex Shell Jacket, MPS, Army, Men's, Sage Green, SR

8415-00-NSH-0549—Gortex Shell Jacket, MPS, Army, Men's, Sage Green, MR

8415-00-NSH-0550—Gortex Shell Jacket, MPS, Army, Men's, Sage Green, ML

8415-00-NSH-0551—Gortex Shell Jacket, MPS, Army, Men's, Sage Green, LR

8415-00-NSH-0552—Gortex Shell Jacket, MPS, Army, Men's, Sage Green, LL

8415-00-NSH-0553—Gortex Shell Jacket, MPS, Army, Men's, Sage Green, XLR

8415-00-NSH-0554—Gortex Shell Jacket, MPS, Army, Men's, Sage Green, XLL

8415-00-NSH-0877—Gortex Shell Jacket, MPS, Navy, Men's, Sage Green, X Small Short

8415-00-NSH-0878—Gortex Shell Jacket, MPS, Navy, Men's, Sage Green, X Small Long

8415-00-NSH-0879—Gortex Shell Jacket, MPS, Navy, Men's, Sage Green, Small Short

8415-00-NSH-0880—Gortex Shell Jacket, MPS, Navy, Men's, Sage Green, Small Long

8415-00-NSH-0881—Gortex Shell Jacket, MPS, Navy, Men's, Sage Green, Medium Short

8415-00-NSH-0882—Gortex Shell Jacket, MPS, Navy, Men's, Sage Green, Large Short

8415-00-NSH-0883—Gortex Shell Jacket, MPS, Navy, Men's, Sage Green, X Large Short

Mandatory Source(s) of Supply: Group Home Foundation, Inc., Belfast, ME; Peckham Vocational Industries, Inc., Lansing, MI

Contracting Activity(ies): Naval Air Systems Command, Patuxent River, MD; Army Contracting Command—Aberdeen Proving Ground, Natick Contracting Division, Natick, MA

NSN(s)—Product Name(s):

8415-00-NSH-0555—Gortex Shell Jacket, MPS, Army, Women's, Sage Green, XSR

8415-00-NSH-0556—Gortex Shell Jacket, MPS, Army, Women's, Sage Green, SR

8415-00-NSH-0557—Gortex Shell Jacket, MPS, Army, Women's, Sage Green, MR

8415-00-NSH-0558—Gortex Shell Jacket, MPS, Army, Women's, Sage Green, LR

8415-00-NSH-0559—Gortex Shell Jacket, MPS, Army, Women's, Sage Green, XLR

8415-00-NSH-0884—Gortex Shell Jacket, MPS, Navy, Women's, Sage Green, X Small Short

8415-00-NSH-0885—Gortex Shell Jacket, MPS, Navy, Women's, Sage Green, X Small Long

8415-00-NSH-0886—Gortex Shell Jacket, MPS, Navy, Women's, Sage Green, Small Short

8415-00-NSH-0887—Gortex Shell Jacket, MPS, Navy, Women's, Sage Green, Small Long

8415-00-NSH-0888—Gortex Shell Jacket, MPS, Navy, Women's, Sage Green, Medium Short

8415-00-NSH-0889—Gortex Shell Jacket, MPS, Navy, Women's, Sage Green, Medium Long

8415-00-NSH-0890—Gortex Shell Jacket, MPS, Navy, Women's, Sage Green, Large Short

8415-00-NSH-0891—Gortex Shell Jacket, MPS, Navy, Women's, Sage Green, Large Long

8415-00-NSH-0892—Gortex Shell Jacket, MPS, Navy, Women's, Sage Green, X Large Short

8415-00-NSH-0893—Gortex Shell Jacket, MPS, Navy, Women's, Sage Green, X Large Long

Mandatory Source(s) of Supply: Group Home Foundation, Inc., Belfast, ME; Peckham Vocational Industries, Inc., Lansing, MI

Contracting Activity(ies): Naval Air Systems Command, Patuxent River, MD; Army Contracting Command—Aberdeen Proving Ground, Natick Contracting Division, Natick, MA

8415-00-NSH-0583—Gortex Shell Trousers, MPS, Navy, Men's, Sage Green, XSR

8415-00-NSH-0584—Gortex Shell Trousers, MPS, Navy, Men's, Sage Green, SR

8415-00-NSH-0585—Gortex Shell Trousers, MPS, Navy, Men's, Sage Green, MR

8415-00-NSH-0586—Gortex Shell Trousers, MPS, Navy, Men's, Sage Green, ML

8415-00-NSH-0587—Gortex Shell Trousers, MPS, Navy, Men's, Sage Green, LR

8415-00-NSH-0588—Gortex Shell Trousers, MPS, Navy, Men's, Sage Green, LL

8415-00-NSH-0589—Gortex Shell Trousers, MPS, Navy, Men's, Sage Green, XLR

8415-00-NSH-0590—Gortex Shell Trousers, MPS, Navy, Men's, Sage Green, XLL

8415-00-NSH-0596—Gortex Shell Trousers, MPS, Navy, Men's, Sage Green, LS

8415-00-NSH-0991—Gortex Shell Trousers, Shell Outer Layer, MPS, Navy, Men's, Black, X Small Short

8415-00-NSH-0992—Gortex Shell Trousers, Shell Outer Layer, MPS, Navy, Men's, Black, X Small Long

8415-00-NSH-0993—Gortex Shell Trousers, Shell Outer Layer, MPS, Navy, Men's, Black, Small Short

8415-00-NSH-0996—Gortex Shell Trousers, Shell Outer Layer, MPS, Navy, Men's, Black, Small Long

8415-00-NSH-0997—Gortex Shell Trousers, Shell Outer Layer, MPS, Navy, Men's, Black, Medium Short

8415-00-NSH-0998—Gortex Shell Trousers, Shell Outer Layer, MPS, Navy, Men's, Black, X Large Short

Mandatory Source(s) of Supply: Group Home Foundation, Inc., Belfast, ME; Peckham Vocational Industries, Inc., Lansing, MI

Contracting Activity(ies): Naval Air Systems Command, Patuxent River, MD; Army Contracting Command—Aberdeen Proving Ground, Natick Contracting Division, Natick, MA

Barry S. Lineback,
Director, Business Operations.

[FR Doc. 2016-00719 Filed 1-14-16; 8:45 am]

BILLING CODE 6353-01-P